DEPARTMENT OF COMMERCE

National Oceanic and Atmospheric Administration

Agency Information Collection Activities; Submission to the Office of Management and Budget (OMB) for Review and Approval; Comment Request; NOAA Satellite Customer Questionnaire

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 23, 2024.

ADDRESSES: Interested persons are invited to submit written comments to Adrienne Thomas, NOAA PRA Officer, at Adrienne.thomas@noaa.gov. Please reference OMB Control Number 0648-0227 in the subject line of your comments. Do not submit Confidential Business Information or otherwise sensitive or protected information.

FOR FURTHER INFORMATION CONTACT: Requests for additional information or specific questions related to collection activities should be directed to Mark Turner and Toby Hutchings at Mark.W.Turner@noaa.gov, 301-817-4446 and Toby.Hutchings@noaa.gov, 240-569-0871, Suitland Federal Center, 4231 Suitland Road, Bldg. NSOF, Suitland, MD 20746.

SUPPLEMENTARY INFORMATION:

I. Abstract

This request is for the extension of a current information collection.

The National Oceanic and Atmospheric Administration (NOAA) operates a minimum of four meteorological satellite imagery transmission systems, two from geostationary operational environmental (GOES) satellites and two from Joint Polar Satellite System (JPSS) satellites. In addition, a commercially broadcast data stream and legacy/backup/standby polar-orbiting satellites continue to be operated as their health permits. The data transmitted are available worldwide, and any user can establish a ground receiving station for reception of the data without the prior consent, notification, or other approval from NOAA. With such an open access policy, it is currently not possible to have a comprehensive understanding of the range and numbers of the data users and application of the data received and/or used. The purpose of collecting the information contained in the “Questionnaire” is to satisfy the following objectives: (1) To comply with international agreements such as the Department of Commerce (DOC)/NOAA's memorandum of understanding (MOU) with the World Meteorological Organization (WMO), so that NOAA can provide environmental satellite data and processed satellite data products to the public domain, and (2) To improve Government efficiencies of data dissemination using cost-saving technologies to minimize the expenditure of personnel and financial resources. The NOAA Policy on Partnerships in the Provision of Environmental Information is also pertinent to this information collection. This policy was developed to strengthen the partnership among government, academia, and the private sector, which provides the nation with high quality environmental information.

The collection of information from a respondent is initiated when an individual contacts National Environmental Satellite, Data, and Information Service (NESDIS) via letter, telephone, fax or email, or when they visit a web page. If the nature of the contact indicates the individual may operate a satellite receiving station for the acquisition of NOAA satellite data or may use NOAA satellite data or services, the individual is requested to complete an on-line electronic questionnaire, which is found on a NOAA internet site. The questionnaire is completed at the respondent's discretion. The information received is used by NOAA for short-term operations and long-term planning. Collection of this data assists in complying with the terms of the MOU with the WMO, MOU with DOC, and NOAA on areas of common interest and other international agreements.

II. Method of Collection

Information will be collected via an online questionnaire.

III. Data

OMB Control Number: 0648-0227.

Form Number(s): None.

Type of Review: Regular submission [extension of a current information collection].

Affected Public: Federal government, Not-for-profit institutions.

Estimated Number of Respondents: 30.

Estimated Time per Response: 6 minutes per response.

Estimated Total Annual Burden Hours: 30 hours.

Estimated Total Annual Cost to Public: $0.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-16306 Filed 7-24-24; 8:45 am]

BILLING CODE 3510-HR-P